DEPARTMENT OF HEALTH AND HUMAN SERVICES

Food and Drug Administration

[Docket No. FDA-2010-N-0001]

Tobacco Products Scientific Advisory Committee; Amendment of Notice

AGENCY: Food and Drug Administration, HHS.

ACTION: Notice.

The Food and Drug Administration (FDA) is announcing an amendment to the notice of meeting of the Tobacco Products Scientific Advisory Committee. This meeting was announced in the Federal Register of May 19, 2010 (75 FR 28027). The amendment is being made to reflect a change in the Agenda and Procedure portions of the document. The Agenda portion is changed to cancel Topic 1 regarding dissolvable tobacco products. This portion of the meeting has been cancelled. The Procedure portion is changed to a 1-hour open public hearing from 10 a.m. to 11 a.m. on July 16, 2010. There are no other changes.

FOR FURTHER INFORMATION CONTACT: Cristi Stark, Center for Tobacco Products, Food and Drug Administration, 9200 Corporate Blvd, Rockville, MD 20850, 1-877-287-1373 (choose Option 4), e-mail: TPSAC@fda.hhs.gov or FDA Advisory Committee Information Line, 1-800-741-8138 (301-443-0572 in the Washington DC area), code 8732110002. Please call the Information Line for up-to-date information on this meeting.

SUPPLEMENTARY INFORMATION: In the Federal Register of May 19, 2010 (75 FR 28027), FDA announced that a meeting of the Tobacco Products Scientific Advisory Committee would be held on July 15 and 16, 2010. On page 28027, in the first column, the Agenda portion of the document is changed to read as follows:

Agenda: On July 15, 2010, the committee will: (1) Receive updates on upcoming committee business related to menthol, including Agency requests for information from industry on menthol cigarettes in order to prepare for the Tobacco Products Scientific Advisory Committee's required report to the Secretary of Health and Human Services regarding the impact of use of menthol in cigarettes on the public health and (2) hear and discuss industry presentations on menthol in cigarettes as they relate to the following five topics: Characterization of menthol, clinical effects of menthol, biomarkers of disease risk, marketing data, and population effects.

On page 28027, in the third column, the Agenda portion of the document is changed to read as follows:

Agenda: On July 16, 2010, the committee will continue discussion on topic 2.

On page 28028, in the first column, the Procedure portion of the document is changed to read as follows:

Procedure: Oral presentations from the public (excluding the tobacco industry) will be scheduled between approximately 10 a.m. and 11 a.m. on July 16, 2010.

This notice is issued under the Federal Advisory Committee Act (5 U.S.C. app. 2) and 21 CFR part 14, relating to the advisory committees.

Dated: June 22, 2010.
Jill Hartzler Warner,
Acting Associate Commissioner for Special Medical Programs.

[FR Doc. 2010-15554 Filed 6-23-10; 11:15 am]

BILLING CODE 4160-01-S